DEPARTMENT OF THE INTERIOR

National Park Service

Notice of Inventory Completion: Springfield Science Museum, Springfield, MA

AGENCY: National Park Service, Interior.

ACTION: Notice.

Notice is here given in accordance with the Native American Graves Protection and Repatriation Act (NAGPRA), 25 U.S.C. 3003, Sec. 5, of the completion of an inventory of human remains and associated funerary objects in the possession of the Springfield Science Museum, Springfield, MA. These human remains and associated funerary objects were removed from various sites in Florida.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

A detailed assessment of the human remains was made by Springfield Science Museum professional staff in consultation with representatives of the Miccosukee Tribe of Indians of Florida.

In 1906, human remains consisting of one bone fragment, representing one individual, were removed from Rice Creek Mound (Florida site #8PU2), Putnam County, FL, by J.T. Bowne. These human remains were donated to the Springfield Science Museum in 1925 by Mr. Bowne. No known individual was identified. No associated funerary objects are present. Two projectile points collected from the shell mound have been identified as Putnam and Levy stemmed varieties, dating the shell mound to the Archaic period (5000-1000 B.C.).

In 1906, human remains consisting of 10 bone fragments, representing a minimum of 1 individual, were removed from a shell mound on the east bank of the St. Johns River, 5 miles west of Enterprise, Seminole County, FL, by J.T. Bowne. These remains were donated to the Springfield Science Museum in 1925 by Mr. Bowne. No known individual was identified. No associated funerary objects are present. According to the Florida State Archaeologist, this site is either the Mound Near Fort Florida (Florida site #8VO50) or Fort Florida Mound (Florida site #8V049), both of which date to the St. Johns II period (A.D. 750-1562).

In 1906, human remains consisting of 42 bone fragments, representing a minimum of 2 individuals, were removed from the Spring Grove Shell Mound (Florida site #VO55), Enterprise, Seminole County, FL, by J.T. Bowne. These human remains were donated to the Springfield Science Museum in 1925 by Mr. Bowne. No known individuals were identified. No associated funerary objects are present. According to the Florida State Archaeologist, this site dates to the Orange period (circa 2000-100 B.C.).

In 1906, human remains consisting of 41 bone fragments, representing a minimum of 1 individual, were removed from a burial mound at Ross Hummock, 3 miles south of Oak Hill, Volusia County, FL, by J.T. Bowne. These human remains were donated to the Springfield Science Museum in 1925 by Mr. Bowne. No known individual was identified. The four associated funerary objects are one turtle carapace fragment, two clam shells, and one fragment of St. Johns plain pottery, which suggest that the site dates to between 700 B.C. and A.D. 1562.

In 1906, human remains consisting of 15 bone fragments, representing a minimum of 1 individual, and human remains consisting of 61 bone fragments, representing a minimum of 2 individuals, were removed from a shell mound in Oak Hill, Volusia County, FL, by J.T. Bowne. These human remains were donated to the Springfield Science Museum in 1925 by Mr. Bowne. No known individuals were identified. No associated funerary objects are present. According to the Florida State Archaeologist, the site is either Florida site #VO125 or VO128, both of which date from the Mount Taylor period to the St. Johns period (circa 5000 B.C.-A.D. 1562).

In 1906, human remains consisting of 31 bone fragments, representing a minimum of 3 individuals, were removed from the Hernandez Shell Mound (Cotton site) (Florida site #8VO83), Ormond, Volusia County, FL, by J.T. Bowne. These human remains were donated to the Springfield Science Museum in 1925 by Mr. Bowne. No known individuals were identified. No associated funerary objects are present. According to the Florida State Archaeologist, fragments of Orange plain, Orange incised, St. Johns plain, St. Johns incised, St. Johns cord-marked, and St. Johns check-stamped pottery recovered from the site suggest that the site dates from 1500 B.C. to A.D. 1562.

In 1909, human remains consisting of seven bone fragments, representing a minimum of two individuals, were removed from a shell mound in Everglades, Collier County, FL, by L.J. Sikes. These human remains were donated to the Springfield Science Museum in 1928 by Mr. Sikes. No known individuals were identified. No associated funerary objects are present. Ten fragments of St. Johns plain pottery collected in the vicinity of the graves place the age of the site between 500 B.C. and A.D. 1562.

In 1912, human remains consisting of 35 bone fragments, representing a minimum of 1 individual, were removed from the Orangedale Shell Mound (Florida site #8SJ21), St. Johns County, FL, by C.B. Moore and were donated to the Springfield Science Museum the same year. No known individual was identified. No associated funerary objects are present. According to the Florida State Archaeologist, the plain and stamped pottery recovered at the site dates to the St. Johns I and II periods and places the age of the site between 700 B.C. and A.D. 1562.

In 1912, human remains consisting of three bone fragments, representing a minimum of one individual, were removed from the Old Okahumpta Shell Mound (Florida site #LA57) near Old Okahumpta, Lake County, FL, by C.B. Moore and were donated to the Springfield Science Museum the same year. No known individual was identified. The associated funerary objects are 14 shell beads. According to the Florida State Archaeologist, the site dates to the St. Johns II period (A.D. 750-1562).

The nine sites listed above are located within the known territory historically occupied by the Miccosukee Indians. During consultation, the sites were identified as earlier occupation areas by representatives of the Miccosukee Tribe of Indians.

Officials of the Springfield Science Museum have determined that, pursuant to 25 U.S.C. 3001, Sec. 2 (9-10), the human remains listed above represent the physical remains of a minimum of 15 individuals of Native American ancestry. Officials of the Springfield Science Museum also have determined that, pursuant to 25 U.S.C. 3001, Sec. 2 (3)(A), the 18 objects listed above are reasonably believed to have been placed with or near individual human remains at the time of death or later as part of the death rite or ceremony. Lastly, officials of the Springfield Science Museum have determined that, pursuant to 25 U.S.C. 3001, Sec. 2 (2), there is a relationship of shared group identity that can be reasonably traced between these Native American human remains and associated funerary objects and the Miccosukee Tribe of Indians of Florida.

Representatives of any other Indian tribe that believes itself to be culturally affiliated with these human remains and associated funerary objects should contact David Stier, Director, Springfield Science Museum, 220 State Street, Springfield, MA 01103, telephone (413) 263-6800, extension 321, before April 7, 2003. Repatriation of these human remains and associated funerary objects to the Miccosukee Tribe of Indians of Florida may proceed after that date if no additional claimants come forward.

The Springfield Science Museum is responsible for notifying the Miccosukee Tribe of Indians of Florida that this notice has been published.

Dated: January 17, 2003.
John Robbins,
Assistant Director, Cultural Resources Stewardship and Partnerships.

[FR Doc. 03-5512 Filed 3-6-03; 8:45 am]

BILLING CODE 4310-70-S